SECURITIES AND EXCHANGE COMMISSION

[Release No. 34-71373; File No. SR-FINRA-2013-051]

Self-Regulatory Organizations; Financial Industry Regulatory Authority, Inc.; Notice of Designation of a Longer Period for Commission Action on Proposed Rule Change To Amend the Uniform Branch Office Registration Form (Form BR)

January 23, 2014.

On November 25, 2013, Financial Industry Regulatory Authority, Inc. (“FINRA”) filed with the Securities and Exchange Commission (“Commission”), pursuant to Section 19(b)(1) of the Securities Exchange Act of 1934 (“Act”) ¹ and Rule 19b-4 thereunder,² a proposed rule change to amend the Uniform Branch Office Registration Form (Form BD). The proposed rule change was published for comment in the Federal Register on December 13, 2013.³ The Commission received three comment letters on this proposal.⁴

¹ 15 U.S.C. 78s(b)(1).

² 17 CFR 240.19b-4.

³ See Securities Exchange Act Release No. 71027 (December 13, 2013), 78 FR 75954.

⁴ See letters to Elizabeth M. Murphy, Secretary, Commission, from Jason Doss, President, Public Investors Arbitration Bar Association, January 2, 2014; David T. Ballaire, Esq., Executive Vice President and General Counsel, Financial Services Institute, January 3, 2104; and Clifford Kirsch and Eric A. Arnold, Sutherland, Asbill and Brennan LLP, on behalf of the Committee of Annuity Insurers, January 3, 2014 (collectively, the “Comment Letters”).

Section 19(b)(2) of the Act ⁵ provides that within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is January 27, 2014. The Commission is extending this 45-day time period.

⁵ 15 U.S.C. 78s(b)(2).

The Commission finds it appropriate to designate a longer period within which to take action on the proposed rule change, so that it has sufficient time to consider this proposed rule change and the Comment Letters that have been submitted in connection with this proposed rule change.

Accordingly, the Commission, pursuant to Section 19(b)(2) of the Act,⁶ designates March 13, 2014, as the date by which the Commission should either approve or disapprove, or institute proceedings to determine whether to disapprove, the proposed rule change (File No. SR-FINRA-2013-051).

⁶ 15 U.S.C. 78s(b)(2).

For the Commission, by the Division of Trading and Markets, pursuant to delegated authority.⁷
⁷ 17 CFR 200.30-3(a)(31).
Elizabeth M. Murphy,
Secretary.

[FR Doc. 2014-01657 Filed 1-28-14; 8:45 am]

BILLING CODE 8011-01-P